DEPARTMENT OF COMMERCE

Foreign-Trade Zones Board

[Order No. 1264]

Grant of Authority for Subzone Status, Deepsea Flexibles, Inc. (Flexible Pipeline); Galveston, Texas

Pursuant to its authority under the Foreign-Trade Zones Act, of June 18, 1934, as amended (19 U.S.C. 81a-81u), the Foreign-Trade Zones Board (the Board) adopts the following Order:

Whereas, the Foreign-Trade Zones Act provides for “* * * the establishment * * * of foreign-trade zones in ports of entry of the United States, to expedite and encourage foreign commerce, and for other purposes,” and authorizes the Foreign-Trade Zones Board to grant to qualified corporations the privilege of establishing foreign-trade zones in or adjacent to U.S. Customs ports of entry;

Whereas, the Board's regulations (15 CFR part 400) provide for the establishment of special-purpose subzones when existing zone facilities cannot serve the specific use involved, and when the activity results in a significant public benefit and is in the public interest;

Whereas, the Board of Trustees of the Galveston Wharves, grantee of Foreign-Trade Zone 36, has made application to the Board for authority to establish a special-purpose subzone at the flexible pipeline manufacturing and warehousing facilities of Deepsea Flexibles, Inc., located in Galveston, Texas (FTZ Docket 10-2002, filed 2/6/02);

Whereas, notice inviting public comment was given in the Federal Register (67 FR 7133, February 15, 2002); and,

Whereas, the Board adopts the findings and recommendations of the examiner's report, and finds that the requirements of the FTZ Act and the Board's regulations are satisfied, and that approval of the application would be in the public interest if approval was subject to restriction;

Now, therefore, the Board hereby grants authority for subzone status at the flexible pipeline manufacturing and warehousing facilities of Deepsea Flexibles, Inc., located in Galveston, Texas (Subzone 36A), at the location described in the application, and subject to the FTZ Act and the Board's regulations, including § 400.28, and further subject to a restriction requiring that all aramid fiber be admitted to the subzone in privileged foreign status.

Signed at Washington, DC, this 8th day of January, 2002.
Faryar Shirzad,
Assistant Secretary of Commerce for Import Administration, Alternate Chairman, Foreign-Trade Zones Board.
Attest:
Dennis Puccinelli,
Executive Secretary.

[FR Doc. 03-982 Filed 1-15-03; 8:45 am]

BILLING CODE 3510-DS-P